DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following: (1) Rehabilitation Maintenance Certificate (OWCP-17); and Application to Employ Homeworkers (WH-46), Piece Rate Measurements, and Homeworker Handbook (WH-75). Copies of the proposed information collection requests can be obtained by contacting the office listed below in the ADDRESSES section of this Notice.

DATES: Written comments must be submitted to the office listed in the addresses section below on or before July 17, 2000.

ADDRESSES: Ms. Patricia A. Forkel, U.S. Department of Labor, 200 Constitution Ave., NW, Room S-3201, Washington, DC 20210, telephone (202) 693-0339 (this is not a toll-free number), fax (202) 693-1451.

SUPPLEMENTARY INFORMATION:

Rehabilitation Maintenance Certificate (OWCP-17)

I. Background

The Office of Workers' Compensation Programs (OWCP) administers the Longshore and Harbor Workers' Compensation Act and the Federal Employees' Compensation Act. These Acts provide employment rehabilitation benefits to eligible injured workers. The OWCP-17 is a form which is submitted, signed, and dated by an injured worker receiving rehabilitation services to request reimbursement from OWCP for expenses incurred as a result of participation in an approved rehabilitation effort. The form requires the signature of a facility official to verify that the employee is in attendance at the program.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to provide vocational rehabilitation services to injured workers currently unemployed as a result of their injury, to enhance their employment potential.

Type of Review: Extension.

Agency: Employment Standards Administration.

Title: Rehabilitation Maintenance Certificate.

OMB Number: 1215-0161.

Agency Number: OWCP-17.

Affected Public: Individuals or households, Businesses or other for-profit; Not-for-profit institutions.

Total Respondents: 1,300.

Frequency: Monthly.

Total Responses: 15,600.

Average Time per Response: 10 minutes.

Estimated Total Burden Hours: 2,605.

Total Burden Cost (capital/startup): $0.

Total Burden Cost (operating/maintenance): $0.

Application to Employ Homeworkers, (WH-46), Piece Rate Measurements, and Homeworker Handbook (WH-75)

I. Background

Section 11(d) of the Fair Labor Standards Act (FLSA) authorizes the Secretary of Labor to regulate, restrict, or prohibit industrial homework as necessary to prevent evasion of the minimum requirements of the Act. Restrictions exist on seven homework industries, (knitted outerwear, women's apparel, jewelry manufacturing, gloves and mittens, button and buckle manufacturing, handkerchief manufacturing, and embroideries). Homework in these industries is permitted only in certain hardship cases. Homework is permitted under the FLSA in all other industries, provided the employer maintains homeworker handbooks for such employees which record hours of work and certain other required payroll information. Further, employers of homeworkers in certain restricted industries must first obtain a certification from the Department of Labor authorizing the employment of such workers. Employers in the restricted industries under the certification program who pay workers based on piece rates must maintain documentation of the work measurements used to establish such piece rates and the circumstances under which measurements were conducted.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order assure compliance with the FLSA in homework employment.

Type of Review: Extension.

Agency: Employment Standards Administration.

Title: Application to Employ Homeworkers.

OMB Number: 1215-0013.

Affected Public: Business or other for-profit; Individuals or households; Not-for-profit institutions.

Frequency: On occasion.

Reporting Burden:

Title | Agency No. | No. of respondents | No. of responses | Average time per response | Burden hours
Application To Employ Homeworkers | WH-46 | 71 | 36 | 30 min. | 18
Homeworker Handbooks | WH-75 | 4,684 | 18,736 | 30 min. | 9,368

Recordkeeping Burden:

Title | No. of recordkeepers | No. of records | Average time per response | Burden hours
Piece Rate Measurement | 71 | 213 | 60½ min. | 215
Homeworker Handbook | 1,171 | 18,736 | ½ min. | 156

Total Respondents (Recordkeeping and Reporting): 4,755.

Total Annual Responses (Recordkeeping and Reporting): 18,772.

Estimated Total Burden Hours (Recordkeeping and Reporting): 9,757.

Total Burden Cost (capital/startup): $0.

Total Burden Cost (operating/maintenance): $0.

Comments submitted in response to this notice will be summarized and/or included in the request for Office of Management and Budget approval of the information collection request; they will also become a matter of public record.

Dated: May 12, 2000.
Margaret J. Sherrill,
Chief, Branch of Management Review and Internal Control, Division of Financial Management, Office of Management, Administration and Planning, Employment Standards Administration.

[FR Doc. 00-12506 Filed 5-17-00; 8:45 am]

BILLING CODE 4510-47-P